DEPARTMENT OF COMMERCE

International Trade Administration

[C-557-822]

Utility Scale Wind Towers From Malaysia: Amended Final Results of Countervailing Duty Administrative Review; 2022

AGENCY: Enforcement and Compliance, International Trade Administration, Department of Commerce.

SUMMARY: The U.S. Department of Commerce (Commerce) is amending the final results of the administrative review of the countervailing duty (CVD) order on utility scale wind towers from Malaysia to correct a ministerial error. The period of review (POR) is January 1, 2022, through December 31, 2022.

DATES: Applicable July 18, 2025.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On June 16, 2025, Commerce published in the Federal Register the final results of the administrative review of the CVD order on utility scale wind towers from Malaysia.¹ In accordance with section 751(a)(1) of the Tariff Act of 1930, as amended (the Act), and 19 CFR 351.224(b), Commerce disclosed its calculations and provided interested parties with the opportunity to submit ministerial error comments.² On June 17, 2025, CS Wind Corporation and CS Wind Malaysia Sdn Bhd (collectively, CS Wind) filed a timely ministerial error allegation concerning the application of the exchange rate in the calculation of a benefit under the import duty exemption program.³

¹ See Utility Scale Wind Towers from Malaysia: Final Results and Partial Rescission of Countervailing Duty Administrative Review; 2022, 90 FR 25230 (June 16, 2025) (Final Results), and accompanying Issues and Decision Memorandum.

² See Memorandum, “Deadline for Ministerial Error Comments,” dated June 13, 2025.

³ See CS Wind's Letter, “CS Wind's Ministerial Error Allegation,” dated June 17, 2025 (Ministerial Error Allegation).

Legal Framework

Section 751(h) of the Act defines a “ministerial error” as including “errors in addition, subtraction, or other arithmetic function, clerical errors resulting from inaccurate copying, duplication, or the like, and any other type of unintentional error which the administering authority considers ministerial.” With respect to final results of administrative reviews, 19 CFR 351.224(e) provides that Commerce “will analyze any comments received and, if appropriate . . . correct any ministerial error by amending . . . the final results of review.”

Ministerial Error

Commerce has determined that the error alleged by CS Wind constitutes a ministerial error within the meaning of section 751(h) of the Act and 19 CFR 351.224(f).⁴ Specifically, we find that we made an inadvertent error in the application of the exchange rate in the benefit calculation for the import duty exemption program. Pursuant to 19 CFR 351.224(e), Commerce is amending the Final Results to reflect the correction of the ministerial error. The revised net subsidy rate is provided below.

⁴ See Memorandum, “Analysis of Ministerial Error Allegation,” dated concurrently with, and hereby adopted by, this notice (Ministerial Error Memorandum).

For a detailed discussion of the aforementioned ministerial error allegation, as well as Commerce's analysis of CS Wind's comments, see the Ministerial Error Memorandum.⁵

⁵ Id.

Amended Final Results of Review

As a result of the correction of the ministerial error, we determine that the countervailable subsidy rate for CS Wind is as follows:

Producer/exporter | Subsidy rate (percent ad valorem)
CS Wind Malaysia Sdn. Bhd | 1.95

Disclosure

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise in accordance with the amended final results of this review for the above-listed company at the applicable ad valorem assessment rate. We intend to issue assessment instructions to CBP no earlier than 35 days after the date of publication of the amended final results of this review in the Federal Register. If a timely summons is filed at the U.S. Court of International Trade, the assessment instructions will direct CBP not to liquidate relevant entries until the time for parties to file a request for statutory injunction has expired (i.e., within 90 days of publication).

Cash Deposit Requirements

In accordance with section 751(a)(1) of the Act, Commerce intends to instruct CBP to collect cash deposits of estimated countervailing duties in the amount shown for CS Wind on shipments of subject merchandise entered, or withdrawn from warehouse for consumption, on or after the date of publication of the final results of this administrative review. The cash deposit requirement, effective upon publication of the final results of this review, shall remain in effect until further notice.

Administrative Protective Order (APO)

This notice serves as a final reminder to parties subject to an APO of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

We are issuing and publishing this notice in accordance with sections 751(h) and 777(i) of the Act, and 19 CFR 351.224(e).

Dated: July 15, 2025.
Christopher Abbott,
Deputy Assistant Secretary for Policy and Negotiations, performing the non-exclusive functions and duties of the Assistant Secretary for Enforcement and Compliance.

[FR Doc. 2025-13551 Filed 7-17-25; 8:45 am]

BILLING CODE 3510-DS-P